DEPARTMENT OF COMMERCE

National Oceanic and Atmospheric Administration

[Docket No. 040812237-4237-01]

NOAA Five-Year Research Plan Draft and NOAA Twenty-Year Research Vision Draft

AGENCY: National Oceanic and Atmospheric Administration (NOAA), Department of Commerce.

ACTION: Notice and Request for Public Comment.

SUMMARY: NOAA publishes this notice to announce the availability of the NOAA 5-Year Research Plan Draft and the NOAA 20-Year Research Vision Draft for public comment.

DATES: Comments on these draft documents must be submitted by September 30, 2004.

ADDRESSES: The NOAA 5-Year Research Plan Draft will be available at the following location: ftp://www.oarhq.noaa.gov/review/5 and the NOAA 20-Year Research Vision Draft will be available at: ftp://www.oarhq.noaa.gov/review/20.

The public is encouraged to submit comments on the NOAA 5-Year Research Plan Draft electronically to: Review.5Year@noaa.gov. The public is encouraged to submit comments on the NOAA 20-Year Research Vision Draft electronically to: Review.20Year@noaa.gov. For commenters who do not have access to a computer, comments on both documents may be submitted in writing to: NOAA Research, c/o Dr. Terry Schaefer, Silver Spring Metro Center Bldg. 3, Room 11863, 1315 East-West Highway, Silver Spring, Maryland 20910.

FOR FURTHER INFORMATION CONTACT: Dr. Terry Schaefer, Silver Spring Metro Center Bldg. 3, Room 11863, 1315 East-West Highway, Silver Spring, Maryland 20910 (phone (301) 713-2465 ext. 184), during normal business hours of 8 a.m. to 5 p.m. Eastern Time, Monday through Friday, or visit the NOAA Research Council Web site at: http://www.nrc.noaa.gov/Reports.htm.

SUPPLEMENTARY INFORMATION: NOAA is publishing this notice to announce the availability of the NOAA 5-Year Research Plan Draft and the NOAA 20-Year Research Vision Draft for public comment. The NOAA 5-Year Research Plan Draft and the NOAA 20-Year Research Vision Draft will be posted for public comment on August 20, 2004. The NOAA Research Council is seeking public comment from all interested parties. The NOAA 5-Year Research Plan Draft and the NOAA 20-Year Research Vision are being issued for comment only and are not intended for interim use. Suggested changes will be incorporated, where appropriate, in the final version.

The NOAA 5-Year Research Plan and the NOAA 20-Year Research Vision are being developed by the NOAA Research Council in response to a January 2004 recommendation from the NOAA Science Advisory Board that NOAA take immediate steps to promulgate a NOAA-wide research plan that is consistent with NOAA's Strategic Plan.

The NOAA 5-Year Research Plan Draft lays the path for how NOAA's research enterprise will begin to deliver, in the short-term, improvements to existing forecasting tools. This plan explicitly states outcomes for the short term and the milestones by which we intend to measure progress towards achieving those outcomes, framed within a vision of a future NOAA.

In order to address the longer-term research goals of the agency, the Research Council has developed the NOAA 20-Year Research Vision Draft. This high-level document intends to outline some of the potential products and services that NOAA will provide in the future, and will further aid environmental forecasting and management over the next 20 years.

NOAA welcomes all comments on the content of the NOAA 5-Year Research Plan Draft and the NOAA 20-Year Research Vision Draft. We also request comments on any inconsistencies perceived within the documents, and possible omissions of important topics or issues. For any shortcoming noted within the draft documents, please propose specific remedies.

Please adhere to the instructions detailed herein for preparing and submitting your comments. Using the format guidance described below will facilitate the processing of reviewer comments and assure that all comments are appropriately considered. Please provide background information about yourself on the first page of your comments: Your name(s), organization(s), area(s) of expertise, mailing address(es), telephone and fax numbers, e-mail address(es). Overview comments should follow your background information and should be numbered. Comments that are specific to particular pages, paragraphs, or lines of the section should follow any overview comments and should identify the page numbers to which they apply. Please number and print identifying information at the top of all pages.

Public comments may be submitted from August 20, 2004, through September 30, 2004.

Dated: August 17, 2004.
Richard D. Rosen,
Chair, NOAA Research Council.

[FR Doc. 04-19219 Filed 8-19-04; 8:45 am]

BILLING CODE 3510-KD-P